DEPARTMENT OF HOMELAND SECURITY

U.S. Customs and Border Protection

Post-Entry Amendment (PEA) Processing Test: Modification, Clarification, and Extension

AGENCY: Customs and Border Protection, Department of Homeland Security.

ACTION: General notice.

SUMMARY: This document announces a modification of U.S. Customs and Border Protection's (CBP's) Post-Entry Amendment (PEA) Processing test, which allows the amendment of entry summaries prior to liquidation. The test is being modified to reflect that PEA procedures will no longer be accepted for entry summaries filed in the Automated Commercial Environment (ACE). In addition, this notice clarifies that for any PEA which results in Antidumping/Countervailing Duty (AD/CVD) cash deposits due (or bond, if allowed), such deposits or bond are due with the submission of the PEA. Lastly, this notice announces that the PEA test is extended for an additional three-year period.

DATES: The Post-Entry Amendment (PEA) Processing test modification set forth in this document is effective September 22, 2011. The PEA test is extended for a three-year period, or such period as may be subsequently announced by CBP, commencing on June 24, 2011.

ADDRESSES: Written comments regarding this notice should be addressed to U.S. Customs and Border Protection, Entry and Drawback Management Branch, Office of International Trade, ATTN: Post-Entry Amendment, 1300 Pennsylvania Avenue, NW., Washington, DC 20229.

FOR FURTHER INFORMATION CONTACT: Questions pertaining to any aspect of this notice should be directed to Laurie Dempsey, U.S. Customs and Border Protection, Entry and Drawback Management Branch, Office of International Trade, at (202) 863-6509 or via e-mail at laurie.dempsey@dhs.gov.

SUPPLEMENTARY INFORMATION:

Background

I. Post-Entry Amendment Processing Test Program

The Post-Entry Amendment (PEA) Processing test procedure is authorized under § 101.9(a) of title 19 of the Code of Federal Regulations (19 CFR 101.9(a)), and allows importers to amend entry summaries (not informal entries) prior to liquidation by filing with Customs and Border Protection (CBP) either an individual amendment letter upon discovery of certain kinds of errors or a quarterly tracking report covering certain other errors that occurred during the quarter.

In a notice published in the Federal Register (65 FR 70872) on November 28, 2000, CBP announced and described the PEA processing test (the test or PEA test). The notice announced that the test would commence no earlier than December 28, 2000, and run approximately one year.

The PEA test was extended on four subsequent occasions by publication of notice in the Federal Register as follows: To December 21, 2002 (67 FR 768, published January 7, 2002); to December 31, 2003 (68 FR 8329, published February 20, 2003); to December 31, 2004 (69 FR 5860, published February 6, 2004); and to August 21, 2008 (72 FR 46654, published August 21, 2007).

II. Modification and Clarification of the PEA Test

In a related notice published in this edition of the Federal Register, CBP announces its plan to conduct a National Customs Automation Program test concerning new ACE Entry Summary, Accounts and Revenue (ESAR IV) capabilities. These new capabilities include functionalities specific to Automated Broker Interface processing of post-summary corrections (PSCs) for entry summaries filed in ACE. The notice announces that, for purposes of ESAR IV, a PSC transaction will replace the existing Post-Entry Amendment (PEA) hard copy process for entry summaries filed under ACE. Accordingly, this notice announces conforming changes to the PEA test whereby PEA procedures will no longer be accepted for entry summaries filed in ACE effective September 22, 2011.

This notice also clarifies that for any PEA which results in Antidumping/Countervailing Duty (AD/CVD) cash deposits due (or bond, if allowed), such deposits or bond are due with the submission of the PEA. There is no de minimis amount for AD/CVD duties. Liquidated damages may apply if the appropriate AD/CVD duties (or bond) are not submitted with the PEA.

In addition, CBP requests that participants not use submissions made under this test as a means of submitting a prior disclosure under 19 U.S.C. 1592. If a participant wishes to file a prior disclosure for an entry summary amended under this test, the rules and procedures set forth in 19 CFR 162.74 should be followed. For more information on prior disclosures see CBP's Informed Compliance Publication “The ABC's of Prior Disclosure” available on cbp.gov.

Other than this modification and clarification, the PEA test procedures remain as set forth in previously published notices.

III. Extension of the PEA Test

This notice announces a further extension of the PEA test for a three-year period, or such period as may be subsequently announced by CBP, commencing on the date this document is published in the Federal Register.

Dated: May 23, 2011.
Allen Gina,
Assistant Commissioner, Office of International Trade.

[FR Doc. 2011-15804 Filed 6-23-11; 8:45 am]

BILLING CODE P